DEPARTMENT OF ENERGY

[OE Docket No. EA-366]

Application to Export Electric Energy; Twin Rivers Paper Company Inc.

AGENCY: Office of Electricity Delivery and Energy Reliability, DOE.

ACTION: Notice of application.

SUMMARY: Twin Rivers Paper Company Inc. (Twin Rivers) has applied for authority to transmit electric energy from the United States to Canada pursuant to section 202(e) of the Federal Power Act.

DATES: Comments, protests, or requests to intervene must be submitted to DOE and received on or before January 18, 2011.

ADDRESSES: Comments, protests, or requests to intervene should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) 202-586-5260.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On August 25, 2010, DOE received an application from Twin Rivers for authority to transmit electric energy from the United States to Canada over the existing international transmission facilities owned by Twin Rivers and authorized by Presidential permit No. PP-366. The international transmission facilities authorized by PP-366 consist of a three-phase, 6.6-kV line and a 138-kV line, operated at 69-kV, connect the integrated pulp and paper operations owned by Twin Rivers and its affiliate on either side of the international border. Twin Rivers has requested an export authorization in order to be able to supply emergency power as needed to Twin Rivers' Canadian operations using the PP-366 facilities.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE and must be received on or before the date listed above.

Comments on the Twin Rivers application to export electric energy to Canada should be clearly marked with Docket No. EA-366. Additional copies (one each) are to be filed directly with Wayne Johnson, Vice President Finance, 707 Sable Oaks Drive, Suite 010, South Portland, Maine 04106 and Steven A. Hudson, ESQ, Preti, Flaherty, Beliveau & Pachios, LLP, P.O. Box 1058, Augusta, Maine 04330. A final decision will be made on this application after the environmental impacts have been evaluated pursuant to DOE's National Environmental Policy Act Implementing Procedures (10 CFR Part 1021) and after a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on December 13, 2010.
Anthony J. Como,
Director, Permitting and Siting Office of Electricity Delivery and Energy Reliability.

[FR Doc. 2010-31745 Filed 12-16-10; 8:45 am]

BILLING CODE 6450-01-P